DEPARTMENT OF ENERGY

Federal Energy Regulatory Commission

[Project No. 4113-067]

Oswego Hydro Partners, LP; Notice of Revised Procedural Schedule

This notice revises the Federal Energy Regulatory Commission's (Commission) schedule for processing the relicense application for the Phoenix Hydroelectric Project No. 4113, which was filed by Oswego Hydro Partners, LP (Oswego Hydro) on February 27, 2024. On July 8, 2024, Commission staff issued Scoping Document 1 (SD1), which included an initial processing schedule with an issuance date of September 2024, for a public notice indicating that the application is ready for environmental analysis.

On August 7, 2024, Oswego Hydro notified the Commission that it is actively engaged in settlement negotiations on potential protection, mitigation, and enhancement measures at the project. On September 6, 2024, Oswego Hydro filed a letter stating that settlement discussions with the New York State Department of Environmental Conservation and the U.S. Fish and Wildlife Service have been productive and the parties are making progress towards formalizing terms and conditions that would resolve operational and environmental issues raised by the parties. Oswego Hydro anticipated filing a Settlement Agreement with the Commission by the end of 2024. On December 2, 2024, Oswego Hydro filed an update on the settlement negotiations, stating that fish passage discussions have been productive and that it now expects to file a Settlement Agreement in the first quarter of 2025.

To provide additional time for the parties to conduct settlement negotiations, the application will be processed according to the following revised schedule.

Milestone | Target date
Notice of Ready for Environmental Analysis | May 2025.
Comments, Recommendations, and Agency Terms and Conditions/Prescriptions | June 2025.

If a schedule change becomes necessary, an additional notice will be provided so that interested parties and government agencies are kept informed of the project's progress.

Dated: December 5, 2024.
Carlos D. Clay,
Acting Deputy Secretary.

[FR Doc. 2024-29097 Filed 12-10-24; 8:45 am]

BILLING CODE 6717-01-P